DEPARTMENT OF HEALTH AND HUMAN SERVICES

Substance Abuse and Mental Health Services Administration

Office for Women's Services; Notice of Meeting

Pursuant to Public Law 92-463, notice is hereby given of a teleconference meeting of the Advisory Committee for Women's Services of the Substance Abuse and Mental Health Services Administration (SAMHSA) in July 2003.

The meeting of the Advisory Committee for Women's Services will include discussion around co-occuring disorders, Access to Recovery, Collaboration with the Health Resources and Services Administration and SAMHSA on Women s Activities and other substance abuse and mental health issues affecting women.

A summary of the meeting and/or a roster of committee members may be obtained from: Nancy P. Brady, Executive Secretary, Advisory Committee for Women's Services, Office for Women's Services, SAMHSA, Parklawn Building, Room 12C-26, 5600 Fishers Lane, Rockville, Maryland 20857, Telephone: (301) 443-1135.

Attendance by the public will be limited to space available. Public comments are welcome. Please communicate with the individual listed as contact below to make arrangements to comment or to request special accommodations for persons with disabilities.

Substantive information may be obtained from the contact whose name and telephone number is listed below.

Committee Name: Advisory Committee for Women's Services.

Meeting Date/Time: Open: July 25, 2003, 12 p.m.-2 p.m.

Place: 5600 Fishers Lane, Room 10-105, Rockville, MD 20857.

Contact: Nancy P. Brady, Executive Secretary, 5600 Fishers Lane, Parklawn Building, Room 12C-26, Rockville, MD 20857.

Telephone: (301) 443-1135; Fax: (301) 594-6159 and e-mail: nbrady@samhsa.gov.

This notice is being published less than 15 days prior to the conference call meeting due to the immediate need to discuss planning for the face to face meeting in September.

Dated: July 11, 2003.
Toian Vaughn,
Committee Management Officer, Substance Abuse and Mental Health Services Administration.

[FR Doc. 03-18089 Filed 7-16-03; 8:45 am]

BILLING CODE 4162-20-P